DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Greater Atlantic Region, Atlantic Sea Scallop Fishery Management Plan Data Collection.

OMB Control Number: 0648-0491.

Form Number(s): None.

Type of Request: Regular (extension of a currently approved information collection).

Number of Respondents: 647.

Average Hours per Response: VMS trip declaration, trip termination, compensation trip identification, powerdown provision, daily catch reports, 2 minutes; access area trip exchange, 15 minutes; VMS purchase and installation, 2 hours; IFQ ownership cap forms, 5 minutes; vessel replacement, upgrade and permit history applications, 3 hours; VMS pre-landing notification form, 5 minutes; VMS state waters exemption program, 2 minutes; quota transfers, 10 minutes; cost recovery, 2 hours; sector proposals, 150 hours; sector operations plans, 100 hours; IFQ, Northern Gulf of Maine, and incidental catch vessel VMS requirements, 2 minutes.

Burden Hours: 2,843.

Needs and Uses: This request is for an extension of a currently approved information collection.

The National Marine Fisheries Service (NMFS) Greater Atlantic Region manages the Atlantic sea scallop (scallop) fishery of the Exclusive Economic Zone (EEZ) off the East Coast under the Atlantic Sea Scallop Fishery Management Plan (FMP). The regulations implementing the FMP are at 50 CFR part 648. To successfully implement and administer components of the FMP, OMB Control No. 0648-0491 includes the following information collections for scallop vessel owners, operators, and fishery participants: Vessel monitoring system (VMS) trip declarations for all scallop vessels, including powerdown declarations; notification of access area trip termination for limited access scallop vessels; submission of access area compensation trip identification; submission of access area trip exchange forms; VMS purchase and installation for individuals that purchase a federally permitted scallop vessel; VMS daily catch reports; submission of ownership cap forms for individual fishing quota (IFQ) scallop vessels; submission of vessel replacement, upgrade and permit history applications for IFQ, Northern Gulf of Maine (NGOM), and Incidental Catch (IC) scallop vessels; submission of VMS pre-landing notification form by IFQ vessels and limited access vessels for access areas; enrollment into the state waters exemption program; submission of requests for IFQ transfers; payment of cost recovery bills for IFQ vessels; sector proposals for IFQ vessels and industry participants; and sector operations plans for approved sector proposals.

Data collected through these programs are incorporated into the NMFS database and are used to track and confirm vessel permit status and eligibility, scallop landings, and scallop vessel allocations. Aggregated summaries of the collected information will be used to evaluate the management program and future management proposals.

Affected Public: Business or other for-profit organizations.

Frequency: Annually, monthly and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 16, 2017.
Sarah Brabson,
NOAA PRA Clearance Officer.

[FR Doc. 2017-10291 Filed 5-19-17; 8:45 am]

BILLING CODE 3510-22-P